NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on September 7-9, 2006, 11545 Rockville Pike, Rockville, Maryland. The date of this meeting was previously published in the Federal Register on Tuesday, November 22, 2005 (70 FR 70638).

Thursday, September 7, 2006, Conference Room T-2b3, Two White Flint North, Rockville, Maryland

8:30 a.m.-8:35 a.m.: Opening Remarks by the ACRS Chairman (Open): The ACRS Chairman will make opening remarks regarding the conduct of the meeting.

8:35 a.m.-10 a.m.: Final Review of the License Renewal Application for the Monticello Nuclear Generating Plant (Open): The Committee will hear presentations by and hold discussions with representatives of the NRC staff and Nuclear Management Company, LLC regarding the license renewal application for the Monticello Nuclear Generating Plant and the associated NRC staff's final Safety Evaluation Report.

10:15 a.m.-11:45 a.m.: Lessons Learned from the Review of the Early Site Permit Applications (Open): The Committee will hear presentations by and hold discussions with representatives of the NRC staff regarding the lessons learned from the review of the early site permit applications for the Grand Gulf, North Anna, and Clinton sites.

12:45 p.m.-2:45 p.m.: Draft Final Revision to 10 CFR 50.68, “Criticality Accident Requirements” (Open): The Committee will hear presentations by and hold discussions with representatives of the NRC staff regarding the draft final revision to 10 CFR 50.68, “Criticality Accident Requirements”.

3 p.m.-4 p.m.: State-of-the Art Consequence Analysis (Open): The Committee will hear presentations by and hold discussions with representatives of the NRC staff regarding the staff's plans to perform a state-of-the art consequence analysis for each site and compare the results with those in NUREG/CR-2239, “Technical Guidance for Siting Criteria Development”.

4 p.m.-4:30 p.m.: EDO Response to the ACRS Report on the Review of Ongoing Security-Related Activities (Closed): The Committee will hold discussions with representatives of the NRC staff regarding the June 29, 2006 response from the NRC Executive Director for Operations (EDO) to the comments and recommendations included in the April 24, 2006 ACRS report on Review of Ongoing Security-Related Activities.

Note: This session will be closed to protect information classified as National Security information as well as safeguards information pursuant to 5 U.S.C. 552b( c) (1) and (3)].

4:45 p.m.-7 p.m.: Preparation of ACRS Reports (Open/Closed): The Committee will discuss proposed ACRS reports on matters considered during this meeting.

Friday, September 8, 2006, Conference Room T-2b3, Two White Flint North, Rockville, Maryland

8:30 a.m.-8:35 a.m.: Opening Remarks by the ACRS Chairman (Open): The ACRS Chairman will make opening remarks regarding the conduct of the meeting.

8:30 a.m.-10:30 a.m.: Risk-Informed Criteria for Societal Risk (Open): The Committee will hear a report by and hold discussions with the cognizant ACRS member regarding risk-informed criteria for societal risk.

10:45 a.m.-11:45 a.m.: Draft Report on the Quality Assessment of Selected NRC Research Projects (Open): The Committee will discuss a draft ACRS report on the quality assessment of the NRC research projects on Containment Capacity Study at Sandia National Laboratories and on Molten Core Coolant Interaction Study at the Argonne National Laboratory.

11:45 a.m.-12 Noon: Subcommittee Report (Open): Report by and discussions with the Chairman of the ACRS Subcommittee on Thermal-Hydraulic Phenomena regarding industry perspectives on PWR sump performance issues that were discussed at the August 23-24, 2006 Subcommittee meeting.

1 p.m.-2 p.m.: Future ACRS Activities/Report of the Planning and Procedures Subcommittee (Open): The Committee will discuss the recommendations of the Planning and Procedures Subcommittee regarding items proposed for consideration by the full Committee during future meetings. Also, it will hear a report of the Planning and Procedures Subcommittee on matters related to the conduct of ACRS business, including anticipated workload and member assignments.

2 p.m.-2:15 p.m.: Reconciliation of ACRS Comments and Recommendations (Open): The Committee will discuss the responses from the NRC Executive Director for Operations to comments and recommendations included in recent ACRS reports and letters.

2:30 p.m.-4 p.m.: Preparation for Meeting With the NRC Commissioners (Open): The Committee will discuss topics of mutual interest for ACRS meeting with the NRC Commissioners that is scheduled for Friday, October 20, 2006.

4:15 p.m.-7 p.m.: Preparation of ACRS Reports (Open/Closed): The Committee will discuss proposed ACRS reports.

Saturday, September 9, 2006, Conference Room T-2b3, Two White Flint North, Rockville, Maryland

8:30 a.m.-12:30 p.m.: Preparation of ACRS Reports (Open): The Committee will continue discussion of proposed ACRS reports.

12:30 p.m.-1 p.m.: Miscellaneous (Open): The Committee will discuss matters related to the conduct of Committee activities and matters and specific issues that were not completed during previous meetings, as time and availability of information permit.

Procedures for the conduct of and participation in ACRS meetings were published in the Federal Register on September 29, 2005 (70 FR 56936). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with subsection 10(d) Public Law 92-463, I have determined that it will be necessary to close a portion of this meeting noted above to discuss and protect information classified as National Security information as well as safeguards information pursuant to 5 U.S.C. 552b(c)(1) and (3).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., ET. ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: August 7, 2006.
Andrew L. Bates,
Advisory Committee Management Officer.

[FR Doc. E6-13123 Filed 8-10-06; 8:45 am]

BILLING CODE 7590-01-P